ENVIRONMENTAL PROTECTION AGENCY

[ER-FRL-8998-1]

Environmental Impact Statements; Notice of Availability

Responsible Agency: Office of Federal Activities, General Information (202) 564-1399 or http://www.epa.gov/compliance/nepa/.

Weekly Receipt of Environmental Impact Statements

Filed 07/10/2011 through 07/15/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

IS No. 20110225, Final EIS, FHWA, TN, Interstate 55 Interchange at E.H. Crump Boulevard and South Boulevard Project, To Provide a Balanced Solution for Safety and Capacity Issues at the I55 Interchange, City of Memphis, Shelby County, TN, Review Period Ends: 08/15/2011, Contact: Charles J. O'Neill 615-781-5772.

EIS No. 20110226, Draft EIS, USFS, ID, Little Slate Project, Proposes Watershed Improvement, Timber Harvest, Fuel Treatments, Soil Restoration and Access Changes in the Little Slate Creek, Salmon River Ranger District, Nez Perce National Forest, Idaho County, ID, Comment Period Ends: 09/06/2011, Contact: Tammy Harding 208-935-4263.

EIS No. 20110227, Draft EIS, FWS, 00, NiSource Multi-Species Habitat Conservation Plan, Proposes to Use Adaptive Management to Ensure Flexibility to Adjust Operations to Benefit Species as New Information is Obtained, Application for Incidental Take Permit, Eastern United States, Comprising Portions of 14 States, Comment Period Ends: 10/11/2011, Contact: Lisa Mandell 612-713-5343.

EIS No. 20110228, Final EIS, FHWA, IN, I-69 Evansville to Indianapolis Tier 2 Section 4 Project, From U.S. 231 (Crane NSWC) to IN-37 South of Bloomington in Section 4, Greene and Monroe Counties, IN, Review Period Ends: 08/15/2011, Contact: Michelle Allen 317-226-7344.

EIS No. 20110229, Draft EIS, USFS, OR, Ogden Vegetation Management Project and Forest Plan Amendment, Proposes to Conduct Vegetation and Fuel Management Activities that will Protect, Maintain, and/or Enhance the Forests Natural Resources and Recreational Opportunities, Bend/Ft. Rock Ranger District, Deschutes National Forest, Deschutes County, OR, Comment Period Ends: 09/06/2011, Contact: Beth Peer 541-383-4769.

EIS No. 20110230, Draft EIS, USFS, OR, Marks Creek Allotment Management Plans, Proposes to Reauthorize Cattle Term Grazing Permits, Construct Range Improvements, and Restore Riparian Vegetation on three Allotments, Lookout Mountain Ranger District, Ochoco National Forest, Crook County, OR, Comment Period Ends: 09/06/2011, Contact: Marcy Anderson 541-416-6463.

EIS No. 20110231, Final EIS, BLM, NV, Salt Wells Energy Projects, Proposal for Three Separate Geothermal Energy and Transmission Projects, Implementation, Churchill County, NV, Review Period Ends: 08/15/2011, Contact: Colleen Sievers 775-885-6168.

EIS No. 20110232, Draft EIS, BLM, WY, Draft Visual Resource Management (VRM) Plan Amendment, Implementation, Carbon County, WY, Comment Period Ends: 10/19/2011, Contact: Pamela Murdock 307-328-4200.

EIS No. 20110233, Draft EIS, BLM, WY, Chokecherry and Sierra Madre Wind Energy Project, Proposes to Construct and Operate a Wind Energy Project, South of Rawlins, Carbon County, WY, Comment Period Ends: 10/19/2011, Contact: Pamela Murdock 307-328-4200.

EIS No. 20110234, Final EIS, FHWA, WI, US 41 Improvement Project, Extend from Depere—Suamico (Memorial Drive to County M), Brown County, WI, Review Period Ends: 08/15/2011, Contact: George Poirier 608-829-7500.

Amended Notices

EIS No. 20110215, Final EIS, FHWA, WI, Wisconsin Highway Project, Mobility Motorized and Nonmotorized Travel Enhancements, Updated Information on New Alternatives, and Evaluates a Staged Improvement, US18/151 (Verona Road) and the US 12/14 (Beltine) Corridors, Dane County, WI, Review Period Ends: 08/15/2011, Contact: George R. Poirier 608-829-7500 Revision to FR Notice Published 07/08/2011: Extending Review Period from 08/08/2011 to 08/15/2011.

EIS No. 20110223, Final EIS, FHWA, WA, Alaskan Way Viaduct Replacement Project, Between S. Royal Brougham Way and Roy Street, To Protect Public Safety and Provide Essential Vehicle Capacity to and through downtown Seattle, Updated Information to 2004 DEIS and 2006 DSEIS, Seattle, WA, Wait Period Ends: 08/15/2011, Contact: Angela Angove 206-805-2832.

Revision to FR Notice 07/15/2011: Correction to the Status from Second Final Supplement to Final.

Dated: July 19, 2011.
Cliff Rader,
Acting Director, NEPA Compliance Division, Office of Federal Activities.

[FR Doc. 2011-18607 Filed 7-21-11; 8:45 am]

BILLING CODE 6560-50-P